FEDERAL MARITIME COMMISSION

Sunshine Act Meetings

Agency Holding the Meeting: Federal Maritime Commission.

Federal Register Citation of Previous Announcement: 75 FR 6205.

Previously Announced Time and Date of the Meeting: February 10, 2010-10 a.m.

Change: 1. The Meeting scheduled on February 10, 2010 was canceled due to inclement weather and rescheduled for February 18, 2010 at 10 a.m.

2. Removal of Item 1 in the Open Session—Docket No. 06-01: Worldwide Relocations, Inc.; et al.—Possible Violations of Sections 8, 10, and 19 of the Shipping Act of 1984 and the Commission's Regulations at 46 CFR 515.3, 515.21, and 520.3—Request for Extension of Time.

Contact Person for More Information: Rachel Dickon, Assistant Secretary, (202) 523-5725.

Rachel Dickon,
Assistant Secretary.

[FR Doc. 2010-3063 Filed 2-12-10; 4:15 pm]

BILLING CODE P